EQUAL EMPLOYMENT OPPORTUNITY COMMISSION

Equal Employment Opportunity Commission Meeting

Date and Time: Wednesday, August 6, 2008, 1 p.m. Eastern Time.

Place: Clarence M. Mitchell, Jr. Conference Room on the Ninth Floor of the EEOC Office Building, 1801 “L” Street, NW., Washington, DC 20507.

Status: Part of the meeting will be open to the public and part of the meeting will be closed.

Matters To Be Considered

Open Session

1. Announcement of Notation Votes, and

2. Sole Source Subscription Renewal to LRP's CyberFEDS on the Web.

Closed Session

Agency Adjudication and Determination on Federal Agency Discrimination Complaint Appeals.

Note: In accordance with the Sunshine Act, the open session of the meeting will be open to public observation of the Commission's deliberations and voting. The remainder of the meeting will be closed. Any matter not discussed or concluded may be carried over to a later meeting. (In addition to publishing notices on EEOC Commission meetings in the Federal Register, the Commission also provides a recorded announcement a full week in advance on future Commission sessions.)

Please telephone (202) 663-7100 (voice) and (202) 663-4074 (TTY) at any time for information on these meetings. The EEOC provides sign language interpretation at Commission meetings for the hearing impaired. Requests for other reasonable accommodations may be made by using the voice and TTY numbers listed above.

Contact Person for More Information: Stephen Llewellyn, Executive Officer on (202) 663-4070.

Dated: July 30, 2008.
Stephen Llewellyn,
Executive Officer, Executive Secretariat.

[FR Doc. E8-17854 Filed 8-4-08; 8:45 am]

BILLING CODE 6570-01-P